DEPARTMENT OF DEFENSE

Department of the Army

[Docket ID: USA-2008-0071]

Privacy Act of 1974; System of Records

AGENCY: Department of the Army, DoD.

ACTION: Notice to Amend a System of Records.

SUMMARY: The Department of the Army is amending a system of records notice in its existing inventory of record systems subject to the Privacy Act of 1974 (5 U.S.C. 552a), as amended.

DATES: This proposed action will be effective without further notice on November 3, 2008 unless comments are received which result in a contrary determination.

ADDRESSES: Department of the Army, Freedom of Information/Privacy Division, U.S. Army Records Management and Declassification Agency, 7701 Telegraph Road, Casey Building, Suite 144, Alexandria, VA 22325-3905.

FOR FURTHER INFORMATION CONTACT: Ms. Vicki Short at (703) 428-6508.

SUPPLEMENTARY INFORMATION: The Department of the Army systems of records notices subject to the Privacy Act of 1974 (5 U.S.C. 552a), as amended, have been published in the Federal Register and are available from the address above.

The specific changes to the record system being amended are set forth below followed by the notice, as amended, published in its entirety. The proposed amendments are not within the purview of subsection (r) of the Privacy Act of 1974 (5 U.S.C. 552a), as amended, which requires the submission of a new or altered system report.

Dated: September 26, 2008.
Patricia L. Toppings,
OSD Federal Register Liaison Officer, Department of Defense.

A0165-1b DACH

SYSTEM NAME:

Chaplain Privileged Counseling/Interview Communication Cases (July 25, 2008, 73 FR 43418).

CHANGES:

* * * * *

SYSTEM MANAGER(S) AND ADDRESS:

Delete entry and replace with “The Chief of Chaplains, 2511 Jefferson Davis Highway, Suite 12500, Arlington, VA 22202-3907.”

NOTIFICATION PROCEDURE:

Delete entry and replace with “Individuals seeking to determine whether information about themselves is contained in this system should address written inquiries to The Chief of Chaplains, 2511 Jefferson Davis Highway, Suite 12500, Arlington, VA 22202-3907 or the Chaplain at the Army installation where counseling or interview occurred.

Individual should provide their full name, present address and telephone number, and signature.”

RECORD ACCESS PROCEDURES:

Delete entry and replace with “Individuals seeking access to information about themselves contained in this system should address written inquiries to The Chief of Chaplains, 2511 Jefferson Davis Highway, Suite 12500, Arlington, VA 22202-3907 or the Chaplain at the Army installation where counseling or interview occurred.

Individual should provide their full name, present address and telephone number, and signature.”

* * * * *

A0165-1b DACH

SYSTEM NAME:

Chaplain Privileged Counseling/Interview Communication Cases

SYSTEM LOCATION:

Army installations. Official mailing addresses are published as an appendix to the Army's compilation of systems of records notices.

CATEGORIES OF INDIVIDUALS COVERED BY THE SYSTEM:

Army members, their dependents and other individuals who have received pastoral counseling from Army chaplains.

CATEGORIES OF RECORDS IN THE SYSTEM:

Memoranda and/or documents resulting from counseling or interview sessions between a chaplain and an individual.

AUTHORITY FOR MAINTENANCE OF THE SYSTEM:

5 U.S.C. 3013, Secretary of the Army; 5 U.S.C. 301, Departmental Regulations; Army Regulation 165-1, Chaplain Activities in the United States Army and E.O. 9397 (SSN).

PURPOSE(S):

To document privileged counseling/interview sessions between Army chaplains and individuals.

ROUTINE USES OF RECORDS MAINTAINED IN THE SYSTEM, INCLUDING CATEGORIES OF USERS AND THE PURPOSES OF SUCH USES:

In addition to those disclosures generally permitted under 5 U.S.C. 552a(b) of the Privacy Act, these records or information contained therein may specifically be disclosed outside the DoD as a routine use pursuant to 5 U.S.C. 552a(b)(3) as follows:

The ‘Blanket Routine Uses’ set forth at the beginning of the Army's compilation of systems of records notices also apply to this system.

POLICIES AND PRACTICES FOR STORING, RETRIEVING, ACCESSING, RETAINING, AND DISPOSING OF RECORDS IN THE SYSTEM:

STORAGE:

Paper records in locked file cabinets and electronic storage media.

RETRIEVABILITY:

By individual's surname.

SAFEGUARDS:

Information is stored in locked cabinets or desks, and is accessible only to the chaplain maintaining the record.

RETENTION AND DISPOSAL:

Retained for 2 years after the individual case is closed; then destroyed by shredding.

SYSTEM MANAGER(S) AND ADDRESS:

The Chief of Chaplains, 2511 Jefferson Davis Highway, Suite 12500, Arlington, VA 22202-3907.

NOTIFICATION PROCEDURE:

Individuals seeking to determine whether information about themselves is contained in this system should address written inquiries to The Chief of Chaplains, 2511 Jefferson Davis Highway, Suite 12500, Arlington, VA 22202-3907 or the Chaplain at the Army installation where counseling or interview occurred.

Individual should provide their full name, present address and telephone number, and signature.

RECORD ACCESS PROCEDURES:

Individuals seeking access to information about themselves contained in this system should address written inquiries to The Chief of Chaplains, 2511 Jefferson Davis Highway, Suite 12500, Arlington, VA 22202-3907 or the Chaplain at the Army installation where counseling or interview occurred.

Individual should provide their full name, present address and telephone number, and signature.

CONTESTING RECORD PROCEDURES:

The Army's rules for accessing records, and for contesting contents and appealing initial agency determinations are contained in Army Regulation 340-21; 32 CFR part 505; or may be obtained from the system manager.

RECORD SOURCE CATEGORIES:

From the individual.

EXEMPTIONS CLAIMED FOR THE SYSTEM:

None.

[FR Doc. E8-23291 Filed 10-2-08; 8:45 am]

BILLING CODE 5001-06-P